DEPARTMENT OF LABOR

Employment and Training Administration

[TA-W-55,560]

Lacey Manufacturing Company, FAG Holding Corporation, MCA Product Line, Including Leased Workers of Adecco Staffing Services, Bridgeport, CT; Amended Certification Regarding Eligibility to Apply for Worker Adjustment Assistance and Negative Determination Regarding Eligibility to Apply for Alternative Adjustment Assistance

In accordance with Section 223 of the Trade Act of 1974 (19 U.S.C. 2273) the Department of Labor issued a Certification of Eligibility to Apply for Worker Adjustment Assistance and Negative Determination Regarding Alternative Trade Adjustment Assistance on September 23, 2004, applicable to workers of Lacey Manufacturing Company, MCA Product Line, including leased workers of Adecco Staffing Services, Bridgeport, Connecticut. The notice will be published soon in the Federal Register.

At the request of the State agency, the Department reviewed the certification for workers of the subject firm. The workers are engaged in the production of disposable surgical devices.

New information provided by the company shows that FAG Holding Corporation is the parent firm of Lacey Manufacturing Company. Information also shows that workers separated from employment at the subject firm had their wages reported under a separate unemployment insurance (UI) tax account for FAG Holding Corporation.

Accordingly, the Department is amending the certification to properly reflect this matter.

The intent of the Department's certification is to include all workers of Lacey Manufacturing Company, MCA Product Line, including leased workers of ADECCO who were adversely affected by increased imports.

The amended notice applicable to TA-W-55,560 is hereby issued as follows:

“All workers of Lacey Manufacturing Company, FAG Holding Corporation, MCA Product Line, including leased workers of ADECCO Staffing Services, Bridgeport, Connecticut, who became totally or partially separated from employment on or after September 2, 2003, through September 23, 2006, are eligible to apply for adjustment assistance under Section 223 of the Trade Act of 1974.”

I further determine that all workers of Lacey Manufacturing Company, FAG Holding Corporation, MCA Product Line, including ADECCO Staffing Services, Bridgeport, Connecticut are denied eligibility to apply for alternative trade adjustment assistance under Section 246 of the Trade Act of 1974.

Signed at Washington, DC this 13th day of October 2004.
Richard Church,
Certifying Officer, Division of Trade Adjustment Assistance.

[FR Doc. E4-2814 Filed 10-22-04; 8:45 am]

BILLING CODE 4510-30-P